FEDERAL COMMUNICATIONS COMMISSION

Information Collection Being Reviewed by the Federal Communications Commission for Extension Under Delegated Authority

AGENCY: Federal Communications Commission.

ACTION: Notice and request for comments.

SUMMARY: As part of its continuing effort to reduce paperwork burdens and as required by the Paperwork Reduction Act of 1995, Public Law 104-13, the Federal Communications Commission invites the general public and other Federal agencies to take this opportunity to comment on the following information collection(s). Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information burden for small business concerns with fewer than 25 employees.

The FCC may not conduct or sponsor a collection of information unless it displays a currently valid control number. No person shall be subject to any penalty for failing to comply with a collection of information subject to the Paperwork Reduction Act (PRA) that does not display a valid control number.

DATES: Persons wishing to comment on this information collection should submit comments September 23, 2011. If you anticipate that you will be submitting comments, but find it difficult to do so within the period of time allowed by this notice, you should advise the contact listed below as soon as possible.

ADDRESSES: Submit your PRA comments to Nicolas A. Fraser, Office of Management and Budget (OMB), via fax at 202-395-5167, or via the Internet at Nicholas_A._Fraser@omb.eop.gov, and to Judith-B.Herman@fcc.gov, Federal Communications Commission (FCC). To submit your comments by e-mail send them to: PRA@fcc.gov.

FOR FURTHER INFORMATION CONTACT: For additional information about the information collection(s), contact Judith B. Herman at 202-418-0214.

SUPPLEMENTARY INFORMATION: OMB Control No.: 3060-0223.

Title: Section 90.129(b), Supplemental Information to Be Routinely Submitted with Applications, Non-type Accepted Equipment.

Form No.: N/A.

Type of Review: Extension of a currently approved collection.

Respondents: Individuals or households, Business or other for-profit, Not-for-profit institutions, and State, Local or Tribal Government.

Number of Respondents: 10 respondents; 10 responses.

Estimated Time per Response: .33 hours (4 minutes).

Frequency of Response: On occasion reporting requirements.

Obligation to Respond: Required to obtain or retain benefits. Statutory authority for this collection of information is contained in 47 U.S.C. sections 154(i), 161, 303(g), 303(r), and 332(c)(7).

Total Annual Burden: 3 hours.

Annual Cost Burden: N/A.

Privacy Act Impact Assessment: Yes.

Nature and Extent of Confidentiality: This does not address any private matters of a sensitive nature with the exception of the personally identifiable information (PII) that individuals are required to maintain.

Needs and Uses: The Commission is seeking Office of Management and Budget (OMB) approval for an extension of this information collection (no change in the reporting requirement). The Commission will submit this information collection after this 60 day comment period. Section 90.129(b) requires applicants proposing to use transmitting equipment that is not type-certified by FCC laboratory personnel to provide a description of the proposed equipment. This assures that the equipment is capable of performing within certain tolerances that limit the interference potential of the device. The information collected is used by FCC engineers to determine the interference potential of the proposed equipment.

OMB Control No.: 3060-0347.

Title: Section 97.311, Spread Spectrum (SS) Emission Types.

Form No.: N/A.

Type of Review: Extension of a currently approved collection.

Respondents: Individuals or households.

Number of Respondents: 10 respondents; 10 responses.

Estimated Time per Response: .017 hours (1 minute).

Frequency of Response: Recordkeeping requirement.

Obligation to Respond: Required to obtain or retain benefits. Statutory authority for this information collection is contained in 47 U.S.C. sections 151-155, and 301-609.

Total Annual Burden: 1 hour.

Annual Cost Burden: N/A.

Privacy Act Impact Assessment: Yes.

Nature and Extent of Confidentiality: This collection does not address any private matters of a sensitive nature with the exception of personally identifiable information (PII) that individuals are required to maintain. In instances where consumers provide personally identifiable information, the FCC has a System of Records Notice (SORN), FCC/WTB-1, and “Wireless Services Licensing Records.”

Needs and Uses: The Commission is seeking Office of Management and Budget (OMB) approval for an extension of this information collection (no change in the recordkeeping requirement). The Commission will submit this information collection after this 60 day comment period.

The recordkeeping requirement in section 97.311 is necessary to document all spread spectrum (ss) transmissions by amateur radio operators. This requirement is necessary so that quick resolution of any harmful interference problems can be achieved and to ensure that the station is operating in accordance with the Communications Act of 1934, as amended.

The information is used by the FCC staff during inspections and investigations to ensure compliance with applicable rules, statutes, and treaties. In the absence of this recordkeeping requirement, field inspections and investigations related to the solution of harmful interference would be severely hampered and needlessly prolonged due to the inability to quickly obtain vital information used to demodulate spread spectrum transmissions.

OMB Control No.: 3060-1008.

Title: Section 27.50, Power and Antenna Height Limits; and Section 27.602, Guard Band Manager Agreements.

Form No.: N/A.

Type of Review: Extension of a currently approved collection.

Respondents: Business or other for-profit and State, Local or Tribal Government.

Number of Respondents: 580 respondents; 580 responses.

Estimated Time per Response: 30 minutes-6 hours.

Frequency of Response: On occasion reporting requirements, recordkeeping requirement and third party disclosure requirement.

Obligation to Respond: Required to obtain or retain benefits. Statutory authority for this information collection is contained in 47 U.S.C. sections 151, 154(i), 157 and 309(j).

Total Annual Burden: 631 hours.

Annual Cost Burden: N/A.

Privacy Act Impact Assessment: N/A.

Nature and Extent of Confidentiality: There is no need for confidentiality.

Needs and Uses: The Commission is seeking Office of Management and Budget (OMB) approval for an extension of this information collection (no change in the reporting, recordkeeping and/or third party disclosure requirements). The Commission will submit this information collection after this 60 day comment period.

The Commission adopted allocation and service rules for the 698-746 MHz spectrum band, which was reallocated pursuant to statutory requirements, in order to support the development of new services in the Lower 700 MHz band while still protecting television operations that continue to occupy the band throughout the transition to digital television.

Section 27.50(c)(8) covers stations operating “at a power level greater than 1Kw ERP and is now “under the provisions of (c)(6),” which defines the group as “transmitting a signal at an ERP greater than 1000 watts and greater than 100 watts/MHz” or in rural counties “if transmitting a signal with an ERP greater than 2000 watts and greater than 2000 watts/MHz.”

Specifically, Lower 700 MHz licensees intending to operate a base or fixed station at a power level permitted under the provisions of paragraph (c)(6) must provide advanced notice of such operation to the Commission and to licensees authorized in their area of operation. Licensees who must be notified are all licensees authorized under this part to operate on an adjacent spectrum block within 75 km of the base or fixed station. Notifications must provide the location and operating parameters of the base or fixed station, including the station's ERP, antenna coordinates, antenna height above ground, and vertical antenna pattern, and such notifications must be provided at least 90 days prior to the commencement of station operation.

Pursuant to section 27.602, Guard Band Managers are required to enter into written agreements regarding the use of their licensed spectrum by others, subject to certain conditions outlined in the rules. Section 27.602(h) requires Guard Band Managers to maintain their written agreements with spectrum users at their principal place of business, and retain such records for at least two years after the date of such agreements expire. Such records shall be kept current and be made available upon request for inspection by the Commission or its representatives.

The service rules have been designed to promote the development and rapid deployment of new technologies, products, and services for the benefit of the public; to promote economic opportunity and competition; and to create an efficient and intensive use of the spectrum by promoting the objectives identified in 47 U.S.C. section 309(j) of the Communications Act of 1934, as amended, and to alleviate any problems associated with the increase power limits available to rural licensees.

Federal Communications Commission.
Bulah P. Wheeler,
Deputy Manager, Office of the Secretary, Office of Managing Director.

[FR Doc. 2011-18604 Filed 7-22-11; 8:45 am]

BILLING CODE 6712-01-P